DEPARTMENT OF THE INTERIOR

[ID-400-1150-CB-241A]

Bureau of Land Management

AGENCY: Bureau of Land Management, Interior.

ACTION: Notice of Address Changes for Cottonwood Field Office and Coeur d'Alene Office, Idaho.

SUMMARY: The mailing address for the Bureau of Land Management (BLM), Cottonwood Field Office, has changed due to implementation of the 911 system. The new address is: 1 Butte Drive, Cottonwood, ID 83522-5200. The physical and mailing address for the BLM Coeur d'Alene Office will be changing on June 5, 2006. This office will be collocating with the Idaho Panhandle National Forest Supervisor's Office and the new address will be: 3815 Schreiber Way, Coeur d'Alene, ID 83815. All telephone numbers for both offices will remain the same.

DATES: These address changes will be effective immediately.

FOR FURTHER INFORMATION CONTACT: Stephanie Snook at the BLM Coeur d'Alene Office at (208) 769-5044.

SUPPLEMENTARY INFORMATION: The BLM Coeur d'Alene Office includes staff from the Coeur d'Alene District and Field Office. Both of these offices will be collocating with the Idaho Panhandle National Forests Supervisor's Office.

Dated: May 30, 2006.
Jenifer Arnold,
Acting District Manager.

[FR Doc. E6-10058 Filed 6-26-06; 8:45 am]

BILLING CODE 4310-GG-P